DEPARTMENT OF ENERGY

Federal Energy Regulatory Commission

Combined Notice of Filings

Take notice that the Commission has received the following Natural Gas Pipeline Rate and Refund Report filings:

Docket Numbers: RP20-1266-001.

Applicants: Ozark Gas Transmission, L.L.C.

Description: Compliance filing Ozark Gas Amended Non-Conforming Agreement to be effective 11/1/2020.

Filed Date: 10/16/20.

Accession Number: 20201016-5089.

Comments Due: 5 p.m. ET 10/23/20.

Docket Numbers: RP21-61-000.

Applicants: Natural Gas Pipeline Company of America.

Description: § 4(d) Rate Filing: Negotiated Rate Agreements Filing-Union Electric to be effective 11/1/2020.

Filed Date: 10/16/20.

Accession Number: 20201016-5070.

Comments Due: 5 p.m. ET 10/28/20.

Docket Numbers: RP21-62-000.

Applicants: Natural Gas Pipeline Company of America.

Description: § 4(d) Rate Filing: Negotiated Rate Agreement Filing-Nicor Gas to be effective 11/1/2020.

Filed Date: 10/16/20.

Accession Number: 20201016-5072.

Comments Due: 5 p.m. ET 10/28/20.

Docket Numbers: RP21-63-000.

Applicants: Algonquin Gas Transmission, LLC.

Description: § 4(d) Rate Filing: Boston Gas 510366 Release to Direct Energy 803170 to be effective 10/17/2020.

Filed Date: 10/16/20.

Accession Number: 20201016-5083.

Comments Due: 5 p.m. ET 10/28/20.

Docket Numbers: RP21-64-000.

Applicants: Centra Pipelines Minnesota Inc.

Description: § 4(d) Rate Filing: Updated Shipper Index Dec 2020 to be effective 12/1/2020.

Filed Date: 10/16/20.

Accession Number: 20201016-5091.

Comments Due: 5 p.m. ET 10/28/20.

Docket Numbers: RP21-65-000.

Applicants: Viking Gas Transmission Company.

Description: § 4(d) Rate Filing: Non-Conforming Agreements AF0360 and AF0359 to be effective 11/20/2020.

Filed Date: 10/16/20.

Accession Number: 20201016-5184.

Comments Due: 5 p.m. ET 10/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2020.
Nathaniel J. Davis, Sr.,
Deputy Secretary.

[FR Doc. 2020-23639 Filed 10-23-20; 8:45 am]

BILLING CODE 6717-01-P